DEPARTMENT OF AGRICULTURE

Rural Utilities Service

[DOCKET #: RUS-24-AGENCY-0007]

Notice of Revision of a Currently Approved Information Collection

AGENCY: Rural Utilities Service

ACTION: Notice; request for comments

SUMMARY: In accordance with the Paperwork Reduction Act of 1995 the Rural Utilities Service (RUS) announces its intention to request a revision for a currently approved information collection package for the Rural Broadband Loans, Loan/Grant Combinations, and Loan Guarantees program.

DATES: Comments on this notice must be received by July 1, 2024 to be assured of consideration.

ADDRESSES: Comments may be submitted electronically by the Federal eRulemaking Portal, regulations.gov.

Other Information: Additional information about Rural Development (RD) and its programs is available on the internet at rd.usda.gov.

FOR FURTHER INFORMATION CONTACT: Adyam Negasi, RD Innovation Center—Regulations Management Division, U.S. Department of Agriculture, 1400 Independence Ave. SW, Washington, DC 20250; Tel: 202-221-9298; Email: Adyam.Negasi@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that the Agency is submitting to OMB for revision.

Comments are invited on (a) whether the proposed collection of information is necessary for the proper performance of the functions of the agency, including whether the information will have practical utility; (b) the accuracy of the agency's estimate of burden including the validity of the methodology and assumption used; (c) ways to enhance the quality, utility, and clarity of the information to be collected; and (d) ways to minimize the burden of the collection of information on those who are to respond, including the use of appropriate automated, electronic, mechanical, or other technological collection techniques on other forms and information technology.

Comments may be sent by the Federal eRulemaking Portal, regulations.gov. In the “Search for dockets and documents on agency actions” box enter the Docket No. RUS-24-AGENCY-0007 and click the “Search” button. From the search results: click on or locate the document title and select the “Comment” button. To submit a comment: Insert comments under the “Comment” title. Select if you are an individual, organization, or anonymous. Select the box “I'm not a robot,” and then select “Submit Comment.” Information on using regulations.gov, including instructions for accessing documents, submitting comments, and viewing the docket after the close of the comment period, is available through the site's “FAQ” link.

All comments will be available for public inspection online at the Federal eRulemaking Portal (https://www.regulations.gov).

Title: Rural Broadband Loans, Loan/Grant Combinations, and Loan Guarantees.

OMB Control Number: 0572-0154.

Type of Request: Revision of a currently approved information collection under 7 CFR part 1738.

Abstract: RUS is authorized by Title VI, Rural Broadband Access, of the Rural Electrification Act of 1936, as amended (RE Act), to provide loans, loan/grant combinations and loan guarantees to fund the cost of construction, improvement, or acquisition of facilities and equipment for the provision of broadband service in eligible rural areas in the States and Territories of the United States. The regulation, 7 CFR part 1738, prescribes the types of loans and/or grants available, facilities financed, and eligible applicants, as well as minimum equity requirements to be considered for a loan.

Estimate of Burden: Public reporting burden for this collection of information is estimated to average 3.04 hours per response.

Respondents: Public Bodies; Non-Profits; Special Districts; Tribal Organizations.

Estimated Number of Respondents: 90.

Estimated Number of Responses per Respondent: 3.03.

Estimated Number of Responses: 273.

Estimated Total Annual Burden on Respondents: 831 hours.

Copies of this information collection can be obtained from Adyam Negasi, RD Innovation Center—Regulations Management Division, at 202-221-9298 or Adyam.negasi@usda.gov.

All responses to this notice will be summarized and included in the request for OMB approval. All comments will also become a matter of public record.

Andrew Berke,
Administrator, Rural Utilities Service, USDA Rural Development.

[FR Doc. 2024-09459 Filed 4-30-24; 8:45 am]

BILLING CODE 3410-15-P